DEPARTMENT OF HEALTH AND HUMAN SERVICES

National Institutes of Health

National Institute of Mental Health; Notice of Workshop

Notice is hereby given of a workshop convened by the Interagency Autism Coordinating Committee (IACC).

The purpose of the 2014 IACC Workshop on Under-Recognized Co-Occurring Conditions in ASD is to convene IACC members and invited subject matter and community experts to focus a discussion on a range of co-occurring health conditions in individuals with ASD that are under-recognized in clinical and services settings, as well as how to best support both research to better understand these conditions, increase community/provider awareness, and foster development of practice guidelines, policies, service approaches and other activities that will result in improvements in quality of life for those with ASD who are affected by these conditions. The workshop will be open to the public and accessible by live webcast and conference call.

Name of Committee: Interagency Autism Coordinating Committee (IACC).

Type of meeting: 2014 IACC Workshop on Under-Recognized Co-Occurring Conditions in ASD.

Date: September 23, 2014.

Time: 9:00 a.m. to 5:00 p.m. Eastern Time.

Agenda: The workshop will focus on a range of co-occurring health conditions in individuals with ASD that are under-recognized in clinical and services settings, as well as how to best support research, increased community/provider awareness, and other activities to improve the quality of life of those with ASD who are affected by these conditions.

Place: National Institutes of Health, John Edward Porter Neuroscience Research Center, 35 Convent Drive, Building 35, Room 620, Bethesda, Maryland 20892.

Conference Call Access Phone number: 888-469-0570, Access code: 7134439.

Webcast Live: http://videocast.nih.gov/.

Cost: The meeting is free and open to the public.

Registration: Pre-registration is recommended to expedite check-in. Seating in the meeting room is limited to room capacity and on a first come, first served basis. To register, please visit www.iacc.hhs.gov.

Deadlines: Notification of intent to present oral comments: Monday, September 8, 2014 by 5:00 p.m. ET. Submission of written/electronic statement for oral comments: Wednesday, September 10, 2014 by 5:00 p.m. ET. Final Deadline for Submission of written comments: Wednesday, September 10, 2014 by 5:00 p.m. ET.

Access: Medical Center Metro Station (Red Line). On-site parking is available for a fee, but very limited. Vehicles entering the NIH campus are subject to security inspections, and visitors must present photo identification for NIH campus access.

Contact Person: Ms. Lina Perez, Office of Autism Research Coordination, National Institute of Mental Health, NIH, 6001 Executive Boulevard, NSC, Room 6182a, Rockville, MD 20852. Phone: (301)-443-6040. Email: IACCPublicInquiries@mail.nih.gov.

Public Comments: Any member of the public age 18 and above interested in presenting oral comments to the Committee must notify the Contact Person listed on this notice by 5:00 p.m. Eastern on Monday, September 8, 2014, with their request to present oral comments at the meeting. Interested individuals and representatives of organizations must submit a written/electronic copy of the oral presentation/statement including a brief description of the organization represented by 5:00 p.m. Eastern on Wednesday, September 10, 2014. Statements submitted will become a part of the public record. Only one representative of an organization or family will be allowed to present oral comments on behalf of that organization or family, and presentations will be limited to 2-3 minutes per speaker, depending on number of speakers to be accommodated within the allotted time. Speakers will be assigned a time to speak in the order of the date and time when their request to speak is received, along with the required submission of the written/electronic statement by the specified deadline. In the case that there are more oral comments requested than can be accommodated in the time allotted, a waiting list will be maintained, and if an oral commenter is unable to meet the deadline for the submission of the accompanying written statement, his/her spot may be ceded to the next person on the waiting list. Any individuals who request oral comments but cannot be accommodated due to time limitations will be welcome to provide written public comments.

In addition, any interested person age 18 and above may submit written comments to the IACC prior to the meeting by sending the comments to the Contact Person listed on this notice by 5:00 p.m. Eastern on Wednesday, September 10, 2014. The comments should include the name, address, telephone number and when applicable, the business or professional affiliation of the interested person. NIMH anticipates written public comments received by 5:00 p.m. Eastern, Wednesday, September 10, 2014 will be presented to the Committee prior to the meeting for the Committee's consideration. Any written comments received after the September 10, 2014 deadline (between September 10-22, 2014) will be provided to the Committee either before or after the meeting, depending on the volume of comments received and the time required to process them in accordance with privacy regulations and other applicable Federal policies. All written public comments and oral public comment statements received by the deadlines for both oral and written public comments will be provided to the IACC for their consideration and will become part of the public record.

Privacy

Public comments provided to or prepared on behalf of the IACC become a part of the public record of the committee, so information that is private, confidential, copyrighted or proprietary should not be included, other than contact information to enable OARC or the IACC to contact a commenter if necessary. By voluntarily providing comments to the IACC, the commenter is consenting to the use and consideration of these comments by the committee and relevant federal agencies. Public comments received are prepared by OARC for the committee in accordance with the FACA, the Freedom of Information Act (FOIA), the Privacy Act, and other applicable laws, regulations and policies. With regard to written public comments, unless a specific request is made in writing to IACCPublicInquiries@mail.nih.gov to withhold the commenter's name, city, state, and affiliation, that information will remain in the comment. Other personally identifiable information, such as: Street addresses; personal email addresses; personal phone numbers; names of minors, dependent adults, and private third party individuals; photographs of individuals or photos depicting sensitive personal information; medical and educational records; and other sensitive personal records, will be redacted. In addition, foul, obscene, threatening, violent, derogatory or hate language or photos will be redacted. Please refrain from including such material in submissions. Written statements prepared in conjunction with oral public comments will also be redacted according to the above guidelines. With regard to oral public comments made at public meetings of the IACC, any information that is shared by the commenter during the public comment session, including the commenter's name, city, state, and affiliation, will become a part of the public record. Due to the public nature of IACC public comments, including the posting of materials related to the IACC on a government Web site, and the need to protect the privacy of minors, only individuals age 18 and above will be permitted to provide public comments to the IACC.

In the future, IACC public comments redacted per the above guidelines will be made available to the public on the IACC Web site. In addition, public comments or information pertaining to public comments may also be included or referenced in other public records of the IACC, such as meeting minutes, transcripts and videos that are made available to the public on the IACC Web site.

Core Values: In the 2009 IACC Strategic Plan, the IACC listed the “Spirit of Collaboration” as one of its core values, stating that, “We will treat others with respect, listen to diverse views with open minds, discuss submitted public comments, and foster discussions where participants can comfortably offer opposing opinions.” In keeping with this core value, the IACC and the NIMH Office of Autism Research Coordination (OARC) ask that members of the public who provide public comments or participate in meetings of the IACC also seek to treat others with respect and consideration in their communications and actions, even when discussing issues of genuine concern or disagreement.

Remote Access: This workshop will also be open to the public through a conference call number and live webcast on the Internet. Members of the public who participate using the conference call phone number will be able to listen to the discussion but will not be heard. If you experience any technical problems with the webcast or conference call, please send an email to helpdeskiacc@gmail.com or by phone at 415-652-8023.

Special Accommodations: Individuals who participate in person or by using these electronic services and who need special assistance, such as captioning of the conference call or other reasonable accommodations, should submit a request to the contact person listed on this notice at least 5 days prior to the meeting.

Security: In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit. Also as a part of security procedures, attendees should be prepared to present a photo ID at the meeting registration desk during the check-in process. Pre-registration is recommended. Seating will be limited to the room capacity and seats will be on a first come, first served basis, with expedited check-in for those who are pre-registered.

Meeting schedule is subject to change.

Dated: August 28, 2014.
Carolyn Baum,
Program Analyst, Office of Federal Advisory Committee Policy.

[FR Doc. 2014-20934 Filed 9-3-14; 8:45 am]

BILLING CODE 4140-01-P